ENVIRONMENTAL PROTECTION AGENCY

[EPA-HQ-OAR-2022-0055; FRL-11391-01-OMS]

Information Collection Request Submitted to OMB for Review and Approval; Comment Request; NSPS for Equipment Leaks of VOC in Petroleum Refineries (Renewal)

AGENCY: Environmental Protection Agency (EPA).

ACTION: Notice.

SUMMARY: The Environmental Protection Agency (EPA) has submitted an information collection request (ICR), NSPS for Equipment Leaks of VOC in Petroleum Refineries (EPA ICR Number 0983.17, OMB Control Number 2060-0067), to the Office of Management and Budget (OMB) for review and approval in accordance with the Paperwork Reduction Act. This is a proposed extension of the ICR, which is currently approved through September 30, 2023. Public comments were previously requested, via the Federal Register, on July 22, 2022 during a 60-day comment period. This notice allows for an additional 30 days for public comments.

DATES: Comments may be submitted on or before October 10, 2023.

ADDRESSES: Submit your comments, referencing Docket ID Number EPA-HQ-OAR-2022-0055, to EPA online using www.regulations.gov (our preferred method), or by email to a-and-r-Docket@epa.gov, or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

Submit written comments and recommendations to OMB for the proposed information collection within 30 days of publication of this notice to: www.reginfo.gov/public/do/PRAMain. Find this specific information collection by selecting “Currently under 30-day Review—Open for Public Comments or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through July 22, 2023. An agency may neither conduct or sponsor, and a person is not required to respond to, a collection of information unless it displays a currently valid OMB control number.

Public comments were previously requested, via the Federal Register on July 22, 2022, during a 60-day comment period (87 FR 43843). This notice allows for an additional 30-days for public comment. Supporting documents, which explains in detail the information that the EPA will be collecting, are available in the public docket for this ICR. The docket can be viewed online at www.regulations.gov, or in person at the EPA Docket Center, WJC Clinton West, Room 3334, 1301 Constitution Ave. NW, Washington, DC. The telephone number for the Docket Center is 202-566-1744. For additional information about EPA's public docket, visit hrrp://www.epa.gov/dockets.

Abstract: The New Source Performance Standards (NSPS) for Equipment Leaks of VOC in Petroleum Refineries (40 CFR part 60, subpart GGG) apply to compressors, valves, pumps, pressure relief devices, sampling connection systems, open-ended valves or lines, and flanges or other connectors in VOC service at petroleum refineries that commenced construction, reconstruction, or modification after January 4, 1983, and on or before November 7, 2006. The NSPS for Equipment Leaks of VOC in Petroleum Refineries (40 CFR part 60, subpart GGGa) apply to compressors, valves, pumps, pressure relief devices, sampling connection systems, open-ended valves or lines, and flanges or other connectors in VOC service at petroleum refineries that commence either construction, or reconstruction, or modification after November 7, 2006. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Owners and operators of petroleum refineries.

Respondent's obligation to respond: Mandatory (40 CFR part 60, subparts GGG and GGGa).

Estimated number of respondents: 116 (total).

Frequency of response: Semiannually.

Total estimated burden: 184,000 hours (per year). Burden is defined at 5 CFR 1320.3(b).

Total estimated cost: $22,000,000 (per year), includes $0 for annualized capital/startup and/or operation & maintenance costs.

Changes in the Estimates: There is no change in burden from the most recently approved ICR as currently identified in the OMB Inventory of Approved Burdens. This is due to two considerations: (1) the regulations have not changed over the past three years and are not anticipated to change over the next three years; and (2) the growth rate for this industry is very low or non-existent, so there is no significant change in the overall burden. Since there are no changes in the regulatory requirements and there is no significant industry growth, there are also no changes in the capital/startup and/or operation and maintenance (O&M) costs. There is a slight increase in costs, which is wholly due to the use of updated labor rates. This ICR uses labor rates from the most recent Bureau of Labor Statistics report (September 2021) to calculate respondent burden costs.

Courtney Kerwin,
Director, Regulatory Support Division.

[FR Doc. 2023-19276 Filed 9-6-23; 8:45 am]

BILLING CODE 6560-50-P